DEPARTMENT OF EDUCATION

[CFDA No. 84.184L]

Office of Elementary and Secondary Education; Safe Schools/Healthy Students Initiative; Notice Inviting Applications for New Awards in Fiscal Year (FY) 2002

Purpose: Under this program, the Departments of Education (ED), Health and Human Services (HHS), and Justice (DOJ) will support the implementation and enhancement of comprehensive community-wide strategies for creating safe and drug-free schools and promoting healthy childhood development.

For FY 2002 the competition focuses on projects designed to meet the priority we describe in the PRIORITIES setion of this notice.

Eligible Applicants: Local educational agencies (LEAs) or consortia of LEAs. LEAs that have received a grant under this initiative in FYs 1999, 2000, or 2001, or have received services under this initiative as part of a grant to a consortium of LEAs in those years, may not apply for funding in FY 2002.

Applications Available: April 25, 2002.

Deadline for Transmittal of Applications: June 21, 2002.

Deadline for Intergovernmental Review: August 20, 2002.

Estimated Available Funds: $79,000,000.

Estimated Range of Awards: Up to $1 million per year for LEAs or consortia in rural areas and tribal school districts; up to $2,000,000 per year for LEAs or consortia in suburban areas; up to $3,000,000 per year for LEAs or consortia in urban areas.

Estimated Average Size of Awards: $2,000,000.

Estimated Number of Awards: 40.

Note: The Department is not bound by any estimates in this notice.

Project Period: Up to 36 months.

Page Limit: The program narrative section of applications submitted under this competition may not exceed 30 pages in length. Each page must:

—Be 8.5″ x 11″.

—Be doubled spaced (no more than three lines per vertical inch).

—Have margins of one inch on the top, bottom and sides.

—Contain type on only one side.

—Use a type font that is either 12-point or larger or not smaller than 10 pitch (characters per inch).

Our reviewers will not read any pages of your application that exceed the page limit if you apply these standards, or that exceed the equivalent of the page limit if you apply other standards. These requirements are designed to prevent an applicant from gaining an unfair competitive advantage by providing a more extensive discussion than the requirements permit and to facilitate evaluation of applications by peer reviewers by ensuring that applications are readable.

Additional information about the structure and organization of the grant proposal is included in the application package for the program.

Applicable Program Regulations: The Education Department General Administrative Regulations in 34 CFR parts 75, 77, 79, 80, 81, 82, 85, 98, and 99.

Priority: This competition focuses on projects designed to meet a program priority established in this notice.

Implementing and Enhancing Comprehensive Community-Wide Strategies for Creating Safe and Drug-Free Schools and Promoting Healthy Childhood Development

Applicants proposing a project under this priority must demonstrate how the funds they are requesting support or enhance a comprehensive, integrated strategy for an entire school district (or entire school districts in the case of a consortium) that is designed to create safe and drug-free schools and promote healthy childhood development. The applicant must propose evidence-based approaches and include, at a minimum, the following six elements: (1) Safe school environment; (2) alcohol and other drugs and violence prevention and early intervention; (3) school and community mental health preventive and treatment intervention programs; (4) early childhood psychosocial and emotional development services; (5) educational reform; and (6) safe school policies. In circumstances where implementation of the strategy for an entire school district is not possible, applicants must provide a full explanation of how the chosen schools will receive services under all six elements of the plan and why district-wide implementation is not feasible or appropriate.

Under element 1, no more than 10 percent of funds proposed for that element may be used to support costs associated with (1) security equipment and personnel, and (2) minor remodeling of school facilities to improve school safety.

For FY 2002 this priority is an absolute priority. Under 34 CFR 75.105(c)(3); Safe and Drug-Free Schools and Communities Act (20 U.S.C. 7131); Public Health Service Act (42 U.S.C. 290aa); Juvenile Justice and Delinquency Prevention Act (42 U.S.C. 5614(b)(4)(e) and 5781 et seq.); the Departments of Labor, Health and Human Services, and Education and Related Agencies Appropriations Act, 2002, January 10, 2002, P.L. 107-116, 115 Stat. 2177; and the Departments of Commerce, Justice, and State Appropriations Act, 2002, November 28, 2001, P.L. 107-77, 115 Stat. 748, we consider only applications that meet the priority.

Other Requirements

We will award approximately 40 grants in FY 2002 to LEAs. To be eligible for funding, applicants must:

(a) Develop and submit a Safe Schools/Healthy Students (SS/HS)application that addresses the following six elements: (1) Safe school environment, (2) alcohol and other drugs and violence prevention and early intervention programs, (3) school and community mental health preventive and treatment intervention services, (4) early childhood psychosocial and emotional development services, (5) educational reform, and (6) safe school policies.

The SS/HS application must show evidence of a partnership comprising the LEA, local public mental health authority, and local law enforcement agency. Applicants are strongly encouraged also to include other entities in the partnership. For example, community- and faith-based organizations, juvenile justice and family court officials, and family members, teachers, and students could all play important roles in developing and implementing the initiative.

(b) Include two formal written agreements. The first must describe the goals and objectives of the partnership and include a delineation of the roles and responsibilities of each partner. This agreement must contain the signatures of the school superintendent, the head of the local public mental health authority, and the chief law enforcement executive. If a consortium of LEAs is applying for funds, the superintendent of each participating LEA must sign this agreement.

The second written agreement must contain the signatures of the school superintendent and the head of the local public mental health authority. This agreement must describe the procedures to be used for referral, treatment, and follow-up for children and adolescents with serious mental health problems. For this purpose, the local public mental health authority is the legally constituted entity closest to the community level that, directly or through contract with the State mental health authority, provides administrative control or oversight of mental health services delivery within the community. If a consortium of LEAs is applying for funds, the superintendent of each participating LEA must sign this agreement.

(c) Include an assurance in their application that they are enforcing the requirements in the Federal Gun-Free Schools Act (regarding possession of firearms at school and reporting of firearms offenses to appropriate law enforcement officials) and the Pro-Children Act (regarding tobacco use in facilities used to provide educational services).

(d) Develop and submit performance indicators for the grant. Performance indicators must link to proposed goals and objectives for the grant, include baseline data (if available), levels of performance for each indicator, timeframes for achieving levels of performance for each indicator, and source of data for measuring progress on each indicator. Applicants must select at least one performance indicator for each of the six required program elements. We intend that grantees use these indicators as a tool to assist in the management of the grant and to focus attention on progress being made by the grantee.

Examples of indicators for the elements include:

Safe School Environment

—rates of school crime.

—student perceptions of the school environment as safe.

Alcohol and Other Drugs, Violence Prevention, and Early Intervention

—prevalence of alcohol and other drug use by students.

—rates of fighting, interpersonal injury, weapon carrying, and gang-related crime in schools.

School and Community Mental Health Preventive and Treatment Intervention Programs

—incidence and prevalence of mental disorders among students (e.g., conduct and related problems, depression, anxiety disorders).

—presence of screening, assessment, and referral mechanisms for mental disorders in the school setting.

Early Childhood Psychosocial and Emotional Development Services

—incidence of adverse mental health outcomes (e.g., conduct problems and other antisocial behaviors, depression, and anxiety disorders) among young children.

—number and types of services for early childhood psychosocial and emotional development.

Educational Reform

—measures of interaction and coordination between academic staff, student support staff, and school security staff.

—use of interventions that teach positive behavior as a supplement or an alternative to other disciplinary approaches.

—measures of academic achievement for students.

Safe Schools Policies

—presence and enforcement of discipline codes and penalties/sanctions for infractions.

—awareness of established policies.

—penalties/sanctions for infractions that emphasize continuing connections to school.

—policies that establish zero-tolerance for drugs and weapons on school premises.

(e) Provide a local plan for evaluating the community-wide strategy and agree to set aside at least 7 percent of the project budget to fund this local evaluation.

(f) Select evidence-based programs and activities for implementation as part of the SS/HS Initiative. The application must include a rationale for the selection of programs and activities that will be implemented by the applicant. This rationale should include information about the research base that supports selected programs and activities, as well as a discussion about why the selected programs or activities are appropriate for the target population and meet needs identified in the needs assessment process. Information about the research base for programs or activities may reference either specific program evaluations or accepted theory from youth development or human development research.

Determining Urbanicity

The maximum amount of funds that an applicant is eligible to receive is based on the applicant's urbanicity. Urban districts may receive grants of up to $3,000,000 per year. Suburban districts may receive grants of up to $2,000,000 per year. Rural districts (including tribal school districts) may receive grants of up to $1,000,000 per year.

Grants will not be awarded for amounts that exceed these established caps. Applicants should ensure that their budget requests do not exceed the caps.

In order to determine its urbanicity, an LEA must use the National Public School and School District Locator to find the locale code for the district. The Locator is available online at: http://nces.ed.gov/ccdweb/school/index.asp.

For the purposes of this competition, the following categories of urbanicity apply:

Rural sites—(1) Large town [an incorporated place or a Census-designated place (CDP) with a population of at least 25,000 and located outside a consolidated metropolitan statistical area (CMSA) or metropolitan statistical area (MSA)]; (2) small town [an incorporated place or CDP with a population between 2,500 and 24,999 and located outside a CMSA or MSA]; or (3) any incorporated place, CDP, or non-place territory designated as rural by the U.S. Bureau of the Census.

Suburban sites—(1) Urban fringe of a large city [any incorporated place, CDP, or non-place territory within a CMSA or MSA of a large city and defined as urban by the U.S. Bureau of Census; or (2) urban fringe of a midsize city [any incorporated place, CDP, or non-place within a CMSA or MSA of a midsize central city and defined as urban by the U.S. Bureau of the Census].

Urban sites—(1) Large city [a central city of a MSA or CMSA with a population of at least 250,000] or (2) midsize city [central city of an MSA or CMSA with a population of less than 250,000].

Participation by Private School Students and Teachers

LEAs that receive a SS/HS grant are required to provide for the equitable participation of eligible private school children and their teachers or other educational personnel. In order to ensure that grant program activities address the needs of private school children, timely and meaningful consultation with appropriate private school officials must occur during the design and development of the program. Administrative direction and control over grant funds must remain with the grantee.

Maintenance of Effort

An LEA may receive a SS/HS grant only if the State educational agency (SEA) finds that the combined fiscal effort per student or the aggregate expenditures of the agency and the State with respect to the provisions of free public education by the agency for the preceding fiscal year was not less than 90 percent of the combined fiscal effort or aggregate expenditures for the second preceding fiscal year.

Equitable Distribution

In making awards under this grant program, we may (1) take into consideration the geographic distribution and diversity of activities addressed by the projects, in addition to the rank order of applicants, and (2) in accordance with § 75.217(d) of the Education Department General Administrative Regulations, ensure equitable distribution of grants under this program among urban, suburban, and rural LEAs.

Contingent upon the availability of funds, we may make additional awards in FY 2003 from the rank-ordered list of unfunded applicants from this competition.

Definitions

For the purpose of this competition, the definition of the term “local educational agency” is the definition at section 9101(26) of the Elementary and Secondary Education Act of 1965 (ESEA), as amended:

(a) General. In general, the term “local educational agency” means a public board of education or other public authority legally constituted within a State for either administrative control or direction of, or to perform a service function for public elementary or secondary schools in a city, county, township, school district, or other political subdivision of a State, or of or for a combination of school districts or counties that is recognized in a State as an administrative agency for its public elementary schools or secondary schools.

(b) Administrative control and direction. The term includes any other public institution or agency having administrative control or direction of a public elementary or secondary school.

(c) BIA Schools. The term includes an elementary school or secondary school funded by the Bureau of Indian Affairs but only to the extent that including the school makes the school eligible for programs for which specific eligiblity is not provided to the school in another provision of law and the school does not have a student population that is smaller than the student population of the LEA receiving assistance under the ESEA with the smallest student population, except that the school shall not be subject to the jurisdiction of any SEA other than the Bureau of Indian Affairs.

(d) Educational service agencies. The term includes educational service agencies and consortia of these agencies.

(e) State educational agency. The term includes the SEA in a State in which the SEA is the sole educational agency for all public schools.

Selection Criteria

We use the following selection criteria to evaluate applications for new grants under this competition. The maximum total score for all of these criteria is 100 points.

The maximum score for each criterion or factor under that criterion is indicated in parentheses.

(a) Problems to be addressed (15 points).

In assessing the extent to which the application is based on a clear and accurate statement of the significant problems faced by the target community, the following factors are considered:

(1) The magnitude or severity of the problem(s) to be addressed by the proposed strategy;

(2) The extent to which existing gaps in services, infrastructure and resources exist, and the magnitude of those gaps and weaknesses;

(3) Evidence of community risk factors that may contribute to youth violence, drug use, and deliquency; and

(4) The extent to which the problem statement includes an assessment of the community resources available for children and adolescents.

(b) Goals and objectives (10 points).

In assessing the goals and objectives of the proposed application, the following factors are considered:

(1) The extent to which the goals, objectives, and outcomes to be achieved by the proposed project are clearly specified and measurable; and

(2) The extent to which the objectives identified are related to measurable action steps needed to achieve the goal(s).

(c) Design of proposed strategy (30 points).

In assessing the design of the proposed strategy, the following factors are considered:

(1) The extent to which the proposed strategy represents a comprehensive, integrated approach that addresses the six elements of the SS/HS Initiative;

(2) The extent to which the intervention is appropriate for the age and developmental levels, gender, and ethnic and cultural diversity of the target population, and demonstrates the ability to engage and respond to the needs of identified ethnic and racial minority populations;

(3) The extent to which the application clearly describes the programs, activities, and services that comprise the proposed strategy, and details how they will be implemented;

(4) The extent to which the proposed programs and activities are evidence based;

(5) The extent to which the proposed strategy will be coordinated with similar or related efforts and will establish linkages with other appropriate agencies and organizations providing services to the target population;

(6) The likelihood that the proposed project will result in system change or improvement; and

(7) The potential for continued support of the strategy after Federal funding ends, including, as appropriate, the demonstrated commitment of appropriate entities to such support.

(d) Evaluation plan (15 points).

In determining the quality of the evaluation plan, the following factors will be considered:

(1) The extent to which the methods of evaluation provide for examining the effectiveness of project implementation strategies.

(2) The extent to which the methods of evaluation will provide performance feedback and permit periodic assessment of progress toward achieving intended outcomes.

(3) The extent to which the methods of evaluation are thorough, feasible, and appropriate to the goals, objectives, and outcomes of the proposed project; and

(4) The adequacy of the identified performance measures to demonstrate whether and to what extent the proposed strategy is meeting its short-term, intermediate, and long-term objectives.

(e) Management and organizational capability (20 points).

In determining the quality of management and organizational capability, the following factors are considered:

(1) The relevance and demonstrated commitment of each partner in the proposed strategy (as demonstrated in the written agreements) to the implementation and success of the strategy, and how they will participate in the proposed project;

(2) The adequacy of the management plan to achieve the objectives of the proposed project on time and within budget, including clearly defined responsibilities, timelines, and milestones for accomplishing project tasks;

(3) The adequacy of procedures for communicating and sharing information among all partners to ensure feedback and continuous improvement in the operation of the proposed comprehensive plan;

(4) The skills, experience, time commitments, and educational requirements of key staff and their relevance to the objectives of the proposed comprehensive plan; and

(5) The extent to which staff qualifications and training represent diverse and relevant experience in engaging and providing services to underserved, underrepresented, and diverse racial and ethnic groups.

(f) Budget (10 points).

In determining the quality of the budget, the following factors will be considered:

(1) The extent to which the costs are reasonable in relation to the number of students to be served and to the anticipated benefits and results;

(2) The extent to which fiscal control and accounting procedures will ensure prudent use, proper and timely disbursement, and accurate accounting of funds received under the grant.

Waiver of Proposed Rulemaking

It is the Secretary's practice, in accordance with the Administrative Procedure Act (5 U.S.C. 553), to offer interested parties the opportunity to comment on proposed rules. Section 437(d)(1) of the General Education Provisions Act (GEPA), however, exempts from this requirement rules that apply to the first competition under a new or substantially revised program. This is the first competition for the SS/HS Initiative under the reauthorized Elementary and Secondary Education Act of 1965, as amended by the No Child Left Behind Act of 2001.

FOR INFORMATION AND APPLICATIONS CONTACT: For information contact Kellie Dressler Tetrick, SS/HS Program Coordinator, Office of Juvenile Justice and Delinquency Prevention, US Department of Justice, 810 7th Street, NW, Washington, DC 20531. Telephone: (202) 514-4817 or via Internet: dresslek@ojp.usdoj.gov.

If you use a telecommunication device for the deaf (TDD), you may call the Federal Information Relay Service (FIRS) at 1-888-877-8339.

Detailed information regarding the SS/HS Initiative is also available at the following sites on the Internet:

http://www.ed.gov/offices/OESE/SDFS

http://www.ojjdp.ncjrs.org

http://www.samhsa.gov

The application package is available on these three Web sites at the addresses indicated above. For printed applications contact: Education Publication Center (ED Pubs), P.O. Box 1398, Jessup, MD 20794-1398. Telephone (toll free): 1-877-433-7827. FAX: (301) 470-1244. If you use a telecommunications device for the deaf (TDD), you may call (toll free): 1-877-576-7734 or via Internet: edpubs@inet.ed.gov.

Individuals with disabilities may obtain this document in an alternative format (e.g. Braille, large print, audiotape, or computer diskette) on request to the program contact person listed under FOR APPLICATIONS AND FURTHER INFORMATION CONTACT.

Individuals with disabilities also may obtain a copy of the application package in an alternative format by contacting that person. However, the Department is not able to reproduce in an alternative format the standard forms included in the application package.

Electronic Access to This Document

You may view this document, as well as all other Department of Education documents published in the Federal Register, in text or Adobe Portable Document Format (PDF) on the Internet at the following site: www.ed.gov/legislation/FedRegister.

To use PDF you must have the Adobe Acrobat Reader, which is available free at this site. If you have questions about using PDF, call the U.S. Government Printing Office (GPO), toll-free, at (888) 293-6498; or in the Washington, DC area at (202) 512-1530.

Note: The official version of this document is the document published in the Federal Register. Free Internet access to the official edition of the Federal Register and the Code of Federal Regulations is available on GPO Access at: http://www.access.gpo.gov/nara/index.html.

Program Authority: 20 U.S.C. 7131; 42 U.S.C. 290aa; 42 U.S.C. 5614(b)(4)(e) and 5781 et seq.; the Departments of Labor, Health and Human Services, and Education and Related Agencies Appropriations Act, 2002, January 10, 2002, Pub. L. 107-116, 115 Stat. 2177; the Departments of Commerce, State, and Justice Appropriations Act, 2002, November 28, 2001, Pub. L. 107-77, 115 Stat. 748.

Dated: April 22, 2002.
Susan B. Neuman,
Assistant Secretary, Office of Elementary and Secondary Education.

[FR Doc. 02-10173 Filed 4-24-02; 8:45 am]

BILLING CODE 4000-01-P